DEPARTMENT OF HEALTH AND HUMAN SERVICES

Centers for Disease Control and Prevention

Notice of Closed Meeting

Pursuant to 5 U.S.C. 1009(d), notice is hereby given of the following meeting.

The meeting will be closed to the public in accordance with the provisions set forth in sections 552b(c)(4) and 552b(c)(6), Title 5 U.S.C., as amended, and the Determination of the Director, Office of Strategic Business Initiatives, Office of the Chief Operating Officer, Centers for Disease Control and Prevention, pursuant to Public Law 92-463. The grant applications and the discussions could disclose confidential trade secrets or commercial property such as patentable material, and personal information concerning individuals associated with the grant applications, the disclosure of which would constitute a clearly unwarranted invasion of personal privacy.

Name of Committee: Disease, Disability, and Injury Prevention and Control Special Emphasis Panel (SEP)—RFA-OH-24-002, Exploratory/Developmental Grants on Lifestyle Medicine Research Related to the World Trade Center Health Program (R21); RFA-OH-24-003, Exploratory/Developmental Grants Related to the World Trade Center Survivors (R21-No Applications with Responders Accepted); RFA-OH-24-004, World Trade Center Health Program Mentored Research Scientist Career Development Award (K01); and RFA-OH-25-001, Exploratory/Developmental Research for World Trade Center Health Program Evidence-based Strategies to Improve Treatment Effectiveness, Diagnostic Practices, and Program Evaluation (R21).

Dates and Times: February 25, 2025, 9 a.m.-5 p.m., EST; and February 26, 2025, 9 a.m.-12 p.m., EST.

Place: Courtyard by Marriott Atlanta Decatur Downtown/Emory, 130 Clairemont Avenue, Decatur, Georgia 30030.

Agenda: To review and evaluate grant applications.

For Further Information Contact: Laurel Garrison, M.P.H., Scientific Review Officer, Office of Extramural Coordination and Special Projects, National Institute for Occupational Safety and Health, Centers for Disease Control and Prevention, 5555 Ridge Avenue, Cincinnati, Ohio 45213. Telephone: (513) 533-8324; Email: LGarrison@cdc.gov.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2025-00487 Filed 1-10-25; 8:45 am]

BILLING CODE 4163-18-P